DEPARTMENT OF ENERGY

Federal Energy Regulatory Commission

[Docket No. RP96-320-062]

Gulf South Pipeline Company, LP; Notice of Compliance Filing

November 17, 2003.

Take notice that on November 10, 2003, Gulf South Pipeline Company, LP (Gulf South) tendered for filing as part of its FERC Gas Tariff, Sixth Revised Volume No. 1, the following tariff sheets, to become effective September 29, 2003.

Substitute Third Revised Sheet No. 605

Fifth Revised Sheet No. 1415

Third Revised Sheet No. 2901

On October 24, 2003 the Commission issued an Order addressing Gulf South's August 27, 2003 compliance filing in this docket. Gulf South states that this brings PAL service into compliance with the Order.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00365 Filed 11-21-03; 8:45 am]

BILLING CODE 6717-01-P